DEPARTMENT OF HEALTH AND HUMAN SERVICES

Centers for Disease Control and Prevention

[60Day-16-16PJ; Docket No. ATSDR-2016-0002]

Proposed Data Collection Submitted for Public Comment and Recommendations

AGENCY: Agency for Toxic Substances and Disease Registry (ATSDR), Department of Health and Human Services (HHS).

ACTION: Notice with comment period.

SUMMARY: Agency for Toxic Substances and Disease Registry (ATSDR), as part of its continuing efforts to reduce public burden and maximize the utility of government information, invites the general public and other Federal agencies to take this opportunity to comment on proposed and/or continuing information collections, as required by the Paperwork Reduction Act of 1995. This notice invites comment on “Collections Related to Synthetic Turf Fields with Crumb Rubber Infill.” The purpose of the proposed studies is to evaluate and characterize the chemical composition and use of synthetic turf with crumb rubber infill and exposure potential to constituents in crumb rubber infill.

DATES: Written comments must be received on or before April 18, 2016.

ADDRESSES: You may submit comments, identified by Docket No. ATSDR-2016-0002 by any of the following methods:

• Federal eRulemaking Portal: Regulation.gov. Follow the instructions for submitting comments.

• Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov. For this docket, ATSDR is only accepting comments on the proposed studies' data collections referenced in this notice.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Collections Related to Synthetic Turf Fields with Crumb Rubber Infill—New—Agency for Toxic Substances and Disease Registry (ATSDR).

Background and Brief Description

Currently in the United States, there are more than 12,000 synthetic turf fields in use. While the Synthetic Turf Council has set guidelines for the content of crumb rubber used as infill in synthetic turf fields, manufacturing processes result in differences among types of crumb rubber. Additionally, the chemical composition may vary highly between different processes and source materials and may vary even within granules from the same origin.

Due to the limited information, the Agency for Toxic Substances and Disease Registry (ATSDR) and the United States Environmental Protection Agency (USEPA) propose to conduct two studies to investigate the chemical composition and use of crumb rubber infill in synthetic turf and the potential for exposure to environmental constituents that may result from contact with crumb rubber infill.

Prior to study initiation, outreach and engagement efforts may be undertaken among stakeholders, including but not limited to industry representatives, state or local partners, and sports coaches. These efforts will inform the design and implementation of the proposed studies and will involve less than ten respondents per stakeholder groups. The outreach and engagement efforts will allow us to better understand the manufacturing process for synthetic turf and crumb rubber infill and allow us to obtain first-hand perspectives on activities conducted on synthetic turf leading to potential exposures. Additionally, outreach efforts will involve discussions and coordination with state partners to identify their current and future research studies on synthetic turf.

The first study, titled “Determination of Field Operating Procedures, Use Conditions, and Chemical Composition of Crumb Rubber Infill in Synthetic Turf Fields,” will characterize field use procedures and conditions. The respondents will include facility representatives who are knowledgeable about the standard operating procedures for synthetic turf fields with crumb rubber infill. We aim to enroll an estimate of ten facilities in each of the four US census regions. The questionnaire will focus on key questions to characterize activity use patterns, field maintenance (e.g., redistribution of crumb rubber material), and other procedures and facility characteristics potentially affecting exposure to any chemicals of potential concern. Also, these facilities may be asked to supply samples from their synthetic turf fields with crumb rubber infill. The samples will be used to characterize the chemical constituents of the crumb rubber infill, including semi-volatile organic compounds (SVOC), metal content, and measurements of volatile organic compounds (VOC) and SVOC emission levels.

The second study, titled “Characterization of Exposure Potential during Activities Conducted on Synthetic Turf with Crumb Rubber Infill,” will be the first assessment of activities conducted on synthetic turf for the purpose of characterizing potential exposure patterns. The study will include persons who use synthetic turf with crumb rubber infill (e.g., facility users) and who routinely perform activities that would result in a high level of contact to crumb rubber. This will allow for evaluation of potential high-end exposures to constituents in synthetic turf among this group of users. The respondents will be administered a detailed questionnaire on activity patterns on synthetic turf with crumb rubber infill. This instrument, along with extant videography of persons engaged in activities of interest, will be used to characterize exposure scenarios, including the nature and duration of potential exposures.

Furthermore, if time and resources allow, we will conduct a full exposure characterization sub-study among a subset of the respondents. If possible, we will use the facilities sampled in the first study to conduct activities for the full exposure characterization of facility users. The exposure characterization sub-study will likely include but is not limited to field environment and material sampling, personal air monitoring, dermal sampling, and urine collection. It is likely that some of the collection items will not be analyzed in the current project time frame but will be archived for future analysis.

The burden hours for the research study of crumb rubber infill composition and field operating procedures is 76 hours among 40 respondents; the burden hours requested for the research study of activity levels in persons playing on synthetic turf with crumb rubber infill is 216 hours among 60 respondents. The total estimated annual time burden requested for these studies equals 292 hours. There is no cost to the respondents other than their time in the study.

Estimated Annualized Burden Hours

“Determination of Field Operating Procedures, Use Conditions, and Chemical Composition of Crumb Rubber Infill in Synthetic Turf Fields”

Type of respondents | Form name | Number of respondents | Number of responses per respondent | Average burden per response (in hrs.) | Total burden (in hrs.)
Facilities | Facility Eligibility Screening | 70 | 1 | 5/60 | 6
| Synthetic Turf Fields Questionnaire | 40 | 1 | 45/60 | 30
| Field Sampling Collection Form | 40 | 1 | 1 | 40
Total |  |  |  |  | 76

“Characterization of Exposure Potential during Activities Conducted on Synthetic Turf with Crumb Rubber Infill”

Type of respondents | Form name | Number of respondents | Number of responses per respondent | Average burden per response (in hrs.) | Total burden (in hrs.)
Facility Users | Facility User Eligibility Screening | 75 | 1 | 5/60 | 6
| Facility User Questionnaire | 60 | 1 | 30/60 | 30
| Full Exposure Characterization Form | 45 | 1 | 4 | 180
Total |  |  |  |  | 216

Leroy A. Richardson,
Chief, Information Collection Review Office, Office of Scientific Integrity, Office of the Associate Director for Science, Office of the Director, Centers for Disease Control and Prevention.

[FR Doc. 2016-03305 Filed 2-17-16; 8:45 am]

BILLING CODE 4163-18-P